DEPARTMENT OF JUSTICE

Office of Justice Programs

[OJP (NIJ) Docket No. 1603]

Interview Room Recording System Standard and License Plate Reader Standard Workshops

AGENCY: National Institute of Justice, DOJ.

ACTION: Notice of the Interview Room Recording System Standard and License Plate Reader Standard Workshops.

SUMMARY: The National Institute of Justice (NIJ) and the International Association of Chiefs of Police (IACP) are hosting two workshops in conjunction with the 119th Annual IACP Conference in San Diego CA. The focus of the workshops is the development of NIJ performance standards for Interview Room Recording Systems and License Plate Readers used by criminal justice agencies. Sessions are intended to inform manufacturers, test laboratories, certification bodies, and other interested parties of these standards development efforts. These workshops are being held specifically to discuss recent progress made toward the standards and to receive input, comments, and recommendations.

Space is limited at each workshop, and as a result, only 50 participants will be allowed to register for each session. We request that each organization limit their representatives to no more than two per organization. Exceptions to this limit may occur, should space allow. Participants planning to attend are responsible for their own travel arrangements.

Please access the following Web page to register for the Interview Room Video Systems workshop: http://www.surveymonkey.com/s/2012_Interview_RM_wkshp.

Please access the following Web page to register for the License Plate Reader workshop: http://www.surveymonkey.com/s/2012_ALPR_wkshp.

DATES: Both workshops will be held on Saturday, September 29, 2012. The Interview Room Recording System Standard session will take place from 10 to 11 a.m. The License Plate Reader Standard session will take place from 11 a.m. to noon.

Location: San Diego Convention Center, 111 West Harbor Drive, San Diego, CA 92101, Room 25A.

FOR FURTHER INFORMATION CONTACT: For additional information, please contact Ian Hamilton at hamilton@theiacp.org or visit www.justnet.org.

John H. Laub,
Director, National Institute of Justice.

[FR Doc. 2012-23345 Filed 9-20-12; 8:45 am]

BILLING CODE 4410-18-P